DEPARTMENT OF LABOR

Occupational Safety and Health Administration

[Docket No. OSHA-2013-0012]

Modification to the List of Appropriate NRTL Program Test Standards and the Scopes of Recognition of Several NRTLs

AGENCY: Occupational Safety and Health Administration (OSHA), Labor.

ACTION: Notice.

SUMMARY: In this notice, OSHA announces the final decision to: (1) Add a new test standard to the Nationally Recognized Testing Laboratories (NRTL) Program's list of appropriate test standards and (2) update the scopes of recognition of several NRTLs.

DATES: The actions contained in this notice will become effective on November 5, 2019.

FOR FURTHER INFORMATION CONTACT: Information regarding this notice is available from the following sources:

Press inquiries: Contact Mr. Frank Meilinger, Director, OSHA Office of Communications; telephone: (202) 693-1999; email: meilinger.francis2@dol.gov.

General and technical information: Contact Mr. Kevin Robinson, Director, Office of Technical Programs and Coordination Activities, Directorate of Technical Support and Emergency Management, Occupational Safety and Health Administration; telephone: (202) 693-2110 or email: robinson.kevin@dol.gov. OSHA's web page includes information about the NRTL Program (see http://www.osha.gov/dts/otpca/nrtl/index.html).

SUPPLEMENTARY INFORMATION:

I. Background

The NRTL program recognizes organizations that provide product-safety testing and certification services to manufacturers. These organizations perform testing and certification for purposes of the program, to U.S. consensus-based product-safety test standards. The products covered by the NRTL program consist of those items for which OSHA safety standards require certification by a NRTL. The requirements affect electrical products and 38 other types of products. OSHA does not develop or issue these test standards, but generally relies on standards-development organizations (SDOs), which develop and maintain the standards using a method that provides input and consideration of views of industry groups, experts, users, consumers, governmental authorities and others having broad experience in the safety field involved.

A. Addition of New Test Standards to the NRTL List of Appropriate Test Standards

Periodically, OSHA will add new test standards to the NRTL list of appropriate test standards following an evaluation of the test standard document. To qualify as an appropriate test standard, the agency evaluates the document to: (1) Verify it represents a product category for which OSHA requires certification by a NRTL, (2) verify the document represents an end product and not a component, and (3) verify the document defines safety test specifications (not installation or operational performance specifications). OSHA becomes aware of new test standards through various avenues. For example, OSHA may become aware of new test standards by: (1) Monitoring notifications issued by certain SDOs; (2) reviewing applications by NRTLs or applicants seeking recognition to include a new test standard in their scopes of recognition; and (3) obtaining notification from manufacturers, manufacturing organizations, government agencies, or other parties that a new test standard may be appropriate to add to its list of appropriate standards. OSHA may determine to include a new test standard in the list, for example, if the test standard is for a particular type of product that another test standard also covers, covers a type of product that no standard previously covered, or is otherwise new to the NRTL Program.

B. SDO Deletion and Replacement of Test Standards

The NRTL program regulations require that appropriate test standards be maintained and current (29 CFR 1910.7(c)). A test standard withdrawn by a standards-development organization is no longer considered an appropriate test standard (Directive, App. C.XIV.B). It is OSHA's policy to remove recognition of withdrawn test standards by issuing a correction notice in the Federal Register for all NRTLs recognized for the withdrawn test standards. However, SDOs frequently will designate a replacement standard for standards they withdraw. OSHA will recognize a NRTL for an appropriate replacement test standard if the NRTL has the requisite testing and evaluation capability for the replacement test standard.

One method that NRTLs may use to show such capability involves an analysis to determine whether any testing and evaluation requirements of existing test standards in a NRTL scope are comparable (i.e., are completely or substantially identical) to the requirements in the replacement test standard. If OSHA's analysis shows the replacement test standard does not require additional or different technical capability than an existing test standard(s), the replacement test standard is comparable to the existing test standard(s), then OSHA can add the replacement test standard to affected NRTLs' scopes of recognition. If OSHA's analysis shows the replacement test standard requires an additional or different technical capability, or the replacement test standard is not comparable to any existing test standards, each affected NRTL that seeks to have OSHA add the replacement test standard to the NRTL's scope of recognition must provide information to OSHA that demonstrates technical capability.

C. Other Reasons for Removal of Test Standards From the NRTL List of Appropriate Test Standards

OSHA may choose to remove a test standard from the NRTL list of appropriate test standards based on an internal review. The review will determine if the test standards conform to the definition of an appropriate test standard defined in NRTL program regulations and policy. There are several reasons for removing a test standard based on this review. First, a document that provides the methodology for a single test is a test method rather than an appropriate test standard (29 CFR 1910.7(c)). As stated above, a test standard must specify the safety requirements for a specific type of product(s). A test method, however, is a “specified technical procedure for performing a test” (Directive, App. B). As such, a test method is not an appropriate test standard. While a NRTL may use a test method to determine if certain safety requirements are met, a test method is not itself a safety requirement for a specific product category.

Second, a document that focuses primarily on usage, installation, or maintenance requirements would also not be considered an appropriate test standard (Directive, App. D.IV.B). In some cases, however, a document may also provide safety test specifications in addition to usage, installation, and maintenance requirements. In such cases, the document would be retained as an appropriate test standard based on the safety test specifications.

Finally, a document may not be considered an appropriate test standard if the document covers products for which OSHA does not require testing and certification (Directive, App. D.IV.A). Similarly, a document that covers electrical-product components would not be considered an appropriate test standard. These documents apply to types of components that have limitation(s) or condition(s) on their use, in that they are not appropriate end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers that documents covering such components are not appropriate test standards under the NRTL program. OSHA notes, however, that it is not proposing to delete from NRTLs' scopes of recognition any test standards covering end-use products that contain such components.¹

¹ OSHA notes also that some types of devices covered by these documents, such as capacitors and transformers, may be end-use products themselves, and tested under other test standards applicable to such products. For example, the following test standard covers transformers that are end-use products: UL 1562 Standard for Transformers, Distribution, Dry-Type—Over 600 Volts. OSHA is not proposing to delete such test standards from NRTLs' scopes of recognition.

In addition, OSHA notes that, to conform to a test standard covering an end-use product, a NRTL must still determine that the components in the product comply with the components' specific test standards. In making this determination, NRTLs may test the components themselves, or accept the testing of a qualified testing organization that a given component conforms to its particular test standard. OSHA reviews each NRTL's procedures to determine which approach the NRTL will use to address components, and reviews the end-use product testing to verify the NRTL appropriately addresses that product's components.

D. Proposed Modification to the NRTL List of Appropriate Test Standards and the Scopes of Recognition of Several NRTLs

In a February 7, 2019, Federal Register notice (84 FR 2587, referred to in this notice as “Proposed Modification,” and available at www.regulations.gov under Docket ID OSHA-2013-0012-0011), OSHA proposed: Adding one standard to the NRTL list of appropriate test standards; deleting a withdrawn and deleted test standard from the NRTL list of appropriate test standards; incorporating into the NRTL list of appropriate test standards a replacement test standard for the withdrawn and deleted test standard; and updating the scopes of recognition of several NRTLs. OSHA received no comments, and in this notice, takes final action on its proposals.

II. Final Decision To Add a New Test Standard to the NRTL Program's List of Appropriate Test Standards

In this notice, OSHA announces its final decision to add one new test standard, UL 61010-2-020, Standard for Safety Requirements for Electrical Equipment for Laboratory Use; Part 2-020: Particular Requirements for Laboratory Equipment for Laboratory Centrifuges, to the NRTL program's list of appropriate test standards. In the Proposed Modification, OSHA proposed adding the same test standard to the NRTL Program's List of Appropriate Test Standards, as described in Table 1:

Table 1—Test Standards OSHA Is Adding to the NRTL Program's List of Appropriate Test Standards
Proposed test standard to be removed | Reason for proposed removal | Proposed replacement test standard(s) (if applicable)
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Equipment for Laboratory Centrifuges.

III. Final Decision To Modify Affected NRTLs' Scopes of Recognition

In this notice, OSHA announces the final decision to update the scopes of recognition of several NRTLs. The tables in this section (Table 2 thru Table 5) list, for each affected NRTL, the test standard that OSHA will delete from its scope of recognition and, when applicable, the test standard that OSHA will incorporate into its scope of recognition to replace withdrawn (and deleted) test standard.

Table 2—Test Standard OSHA Will Remove and Replace From the Scope of Recognition of the Canadian Standards Association
Test standard to be removed | Reason for removal | Replacement test standard
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Equipment for Laboratory Centrifuges.

Table 3—Test Standard OSHA Will Remove and Replace From the Scope of Recognition of Intertek Testing Services, NA
Test standard to be removed | Reason for removal | Replacement test standard
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Equipment for Laboratory Centrifuges.

Table 4—Test Standard OSHA Will Remove and Replace From the Scope of Recognition of TUV SUD America, Inc.
Test standard to be removed | Reason for removal | Replacement test standard
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Equipment for Laboratory Centrifuges.

Table 5—Test Standard OSHA Will Remove and Replace From the Scope of Recognition of Underwriters Laboratory, Inc.
Test standard to be removed | Reason for removal | Replacement test standard
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Equipment for Laboratory Centrifuges.

OSHA will incorporate the modifications to each NRTL Scope of Recognition on the informational web pages. These web pages detail the scope of recognition for each NRTL, including the test standards the NRTL may use to test and certify products under OSHA's NRTL Program. OSHA also will add, to the Appropriate Test Standards web page, those test standard added to the NRTL list of appropriate test standards, and add, to the Standards No Longer Recognized web page, those test standards that OSHA no longer recognizes or permits under the NRTL program. Access to these web pages is available at http://www.osha.gov/dts/otpca/nrtl/index.html.

Pursuant to the authority in 29 CFR 1910.7, OSHA hereby updates the NRTL List of Appropriate Test Standards, subject to the limitation and conditions specified above.

V. Authority and Signature

Loren Sweatt, Principal Deputy Assistant Secretary of Labor for Occupational Safety and Health, authorized the preparation of this notice. Accordingly, the agency is issuing this notice pursuant to 29 U.S.C. 657(g)(2)), Secretary of Labor's Order No. 1-2012 (77 FR 3912, Jan. 25, 2012), and 29 CFR 1910.7.

Signed at Washington, DC, on October 30, 2019.
Loren Sweatt,
Principal Deputy Assistant Secretary of Labor for Occupational Safety and Health.

[FR Doc. 2019-24093 Filed 11-4-19; 8:45 am]

BILLING CODE 4510-26-P